Title 3—

The President

Executive Order 13408 of June 29, 2006

Amending Executive Order 13381, As Amended, To Extend its Duration by One Year

By the authority vested in me as President by the Constitution and the laws of the United States of America, and in order to extend by 1 year the duration of Executive Order 13381 of June 27, 2005, it is hereby ordered that:

Section 1. Section 6(a) of Executive Order 13381 is amended by striking “April 1, 2006” and inserting in lieu thereof “April 1, 2007”.

Sec. 2. Section 6(b) of Executive Order 13381 is amended by striking “July 1, 2006” and inserting in lieu thereof “July 1, 2007”.

B

THE WHITE HOUSE,

June 29, 2006.

[FR Doc. 06-5984

Filed 6-30-06; 8:45 am]

Billing code 3195-01-P